DEPARTMENT OF TRANSPORTATION

Federal Railroad Administration

[Docket Number FRA-2010-0164]

Petition for Extension of Waiver of Compliance

Under part 211 of title 49 Code of Federal Regulations (CFR), this document provides the public notice that on January 10, 2023, the International Association of Sheet Metal, Air, Rail and Transportation Workers (SMART)—Transportation Division and Albany Port Railroad (Petitioners) petitioned the Federal Railroad Administration (FRA) for an extension of a waiver of compliance from certain provisions of the hours of service laws contained at title 49 United States Code (U.S.C.) section 21103(a). The relevant Docket Number is FRA-2010-0164.

Specifically, Petitioners requested an extension of the existing relief from the provisions of 49 U.S.C. 21103(a)(4), which in part, provides that a train employee may not be required or allowed to remain or go on duty after that employee has initiated an on-duty period each day for 6 consecutive days, unless that employee has had at least 48 hours off duty at the employee's home terminal. Petitioners seek to continue to allow a train employee to initiate an on-duty period for 6 consecutive days followed by 24 hours off duty. Petitioners state that Albany Port Railroad runs only one shift per day and operates solely within yard limits. The relief would allow the railroad to serve its customers on Saturdays.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at https://www.regulations.gov. Follow the online instructions for submitting comments.

Communications received by June 5, 2023 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-06990 Filed 4-3-23; 8:45 am]

BILLING CODE 4910-06-P